DEPARTMENT OF THE TREASURY

Renewal of the Federal Advisory Committee on Insurance

AGENCY: Departmental Offices, U.S. Department of the Treasury.

ACTION: Notice.

SUMMARY: The charter for the Federal Advisory Committee on Insurance (FACI) has been renewed for a two-year period beginning July 29, 2013.

FOR FURTHER INFORMATION CONTACT: James P. Brown, Senior Policy Advisor to the Federal Insurance Office, Room 2100, Department of the Treasury, 1425 New York Avenue NW., Washington, DC 20220, at (202) 622-6910 (this is not a toll-free number).

SUPPLEMENTARY INFORMATION: Notice is hearby given under section 10(a)(2) of the Federal Advisory Committee Act, 5 U.S.C. App. 2, that the FACI has been renewed for an additional two years beginning July 29, 2013. The purpose of the FACI is to present advice and recommendations to the Federal Insurance Office (FIO) in performing its duties and authorities. The advice and recommendations may cover specific or general insurance topics, processes, studies and/or reports. The duties of the FACI shall be solely advisory and shall extend only to the submission of advice and recommendations, which shall be non-binding, to FIO. The FACI meets on a periodic basis, and its membership is balanced to include a cross-section of representative views of state and non-government persons having an interest in the duties and authorities of FIO.

Dated: August 16, 2013.
Rebecca H. Ewing,
Executive Secretary.

[FR Doc. 2013-20700 Filed 8-23-13; 8:45 am]

BILLING CODE 4810-25-P